DEPARTMENT OF ENERGY

Federal Energy Regulatory Commission

Combined Notice of Filings #1

Take notice that the Commission received the following electric rate filings:

Docket Numbers: ER10-1763-002; ER10-1765-002; ER10-1766-002; ER10-1769-002; ER10-1767-002; ER10-1532-002; ER10-1541-003; ER10-1642-004; ER10-1529-003; ER13-2349-001; ER13-2350-001.

Applicants: Entergy Arkansas, Inc., Entergy Louisiana, LLC, Entergy Mississippi, Inc., Entergy New Orleans, Inc., Entergy Texas, Inc., Entergy Nuclear Palisades, LLC, Entergy Power, LLC, EWO Marketing, LLC, Northern Iowa Windpower, LLC, EAM Nelson Holding, LLC, RS Cogen, LLC.

Description: Notice of Change in Status of the Entergy Central MBR Utilities.

Filed Date: 4/1/16.

Accession Number: 20160401-5475.

Comments Due: 5 p.m. ET 4/22/16.

Docket Numbers: ER15-746-004.

Applicants: RC Cape May Holdings, LLC.

Description: Compliance filing: RC Cape May 90-day Informational Filing to be effective 3/1/2016.

Filed Date: 3/3/16.

Accession Number: 20160303-5110.

Comments Due: 5 p.m. ET 4/19/16.

Docket Numbers: ER16-1342-000.

Applicants: Arizona Public Service Company.

Description: Notice of Cancellation, Request for Approval of Accounting and Rate Treatment, and Request for Expedited Action and Shortened Comment Period of Arizona Public Service Company.

Filed Date: 4/1/16.

Accession Number: 20160401-5485.

Comments Due: 5 p.m. ET 4/11/16.

Docket Numbers: ER16-1344-000.

Applicants: Seward Generation, LLC.

Description: Baseline eTariff Filing: Notice of Sucession to be effective 4/4/2016.

Filed Date: 4/4/16.

Accession Number: 20160404-5260.

Comments Due: 5 p.m. ET 4/25/16.

Docket Numbers: ER16-1345-000.

Applicants: Virginia Electric and Power Company, PJM Interconnection, L.L.C.

Description: § 205(d) Rate Filing: VEPCO submits 3 Wholesale Distribution Service Agreements Nos. 4433, 4434, 4435 to be effective 12/26/2015.

Filed Date: 4/5/16.

Accession Number: 20160405-5047.

Comments Due: 5 p.m. ET 4/26/16.

Docket Numbers: ER16-1346-000.

Applicants: Midcontinent Independent System Operator, Inc.

Description: § 205(d) Rate Filing: 2016-04-05_SA 2911 LEPA-MISO e-NRIS (J373) to be effective 4/6/2016.

Filed Date: 4/5/16.

Accession Number: 20160405-5063.

Comments Due: 5 p.m. ET 4/26/16.

Docket Numbers: ER16-1347-000.

Applicants: PJM Interconnection, L.L.C.

Description: § 205(d) Rate Filing: Amendment to WMPA SA No. 3636, Queue No. X1-085 per Assignment to be effective 8/12/2013.

Filed Date: 4/5/16.

Accession Number: 20160405-5098.

Comments Due: 5 p.m. ET 4/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2016.
Nathaniel J. Davis, Sr.,
Deputy Secretary.

[FR Doc. 2016-08409 Filed 4-12-16; 8:45 am]

BILLING CODE 6717-01-P